DEPARTMENT OF THE INTERIOR

Bureau of Land Management

[AK-930-07-1310-DS]

Notice of Availability for the Northeast National Petroleum Reserve—Alaska Supplemental Final Integrated Activity Plan/Environmental Impact Statement

AGENCY: Bureau of Land Management, Interior.

ACTION: Notice of Availability.

SUMMARY: The Bureau of Land Management (BLM), Alaska State Office, is issuing the Northeast National Petroleum Reserve—Alaska (NPR-A) Supplemental Final Integrated Activity Plan/Environmental Impact Statement (IAP/EIS).

DATES: The Final IAP/EIS is available to the public. After 30 days the BLM will issue a Record of Decision.

ADDRESSES: Requests for information regarding the Final IAP/EIS may be sent to Jim Ducker, Bureau of Land Management, Alaska State Office (931), 222 West 7th Avenue, Anchorage, Alaska 99513-7599. Before including your address, phone number, e-mail address, or other personal identifying information in your correspondence, you should be aware that your entire correspondence—including your personal identifying information—may be made publicly available at any time. While you can ask us to withhold your personal identifying information from public review, we cannot guarantee that we will be able to do so. The Final IAP/EIS is available on the BLM-Alaska Web site at http:www.blm.gov/ak. CD or paper copies may be requested by calling Jim Ducker, BLM project lead at 907-271-3130.

FOR FURTHER INFORMATION CONTACT: Jim Ducker, BLM Alaska State Office, 907-271-3130.

SUPPLEMENTARY INFORMATION: This Supplemental IAP/EIS supplements the Northeast NPR-A Amended IAP/EIS, which was completed in January 2005 and was followed with a Record of Decision in January 2006. On September 25, 2006, the U.S. District Court for the District of Alaska found the Amended IAP/EIS analysis failed to fully consider the cumulative effects of oil and gas leasing in planning area and in the adjacent Northwest NPR-A planning area and vacated the Record of Decision for the Amended IAP/EIS. The Supplemental IAP/EIS provides the additional analysis necessary to fully address deficiencies noted by the court and updates relevant sections of the document with information that has become available since the completion of the Amended IAP/EIS. Like the Amended IAP/EIS, the Supplemental IAP/EIS considers additional oil and gas leasing opportunities in the same approximately 4.6 million acres in the northeast portion of the National Petroleum Reserve-Alaska. The Supplemental IAP/EIS considers the same issues and almost identical alternatives as were addressed in the Amended IAP/EIS. The Final Supplemental IAP/EIS identifies as the Preferred Alternative a modified version of Alternative D that appeared in the Draft Supplemental IAP/EIS. The primary modification is to defer more than 500,000 acres from leasing for 10 years following the adoption of a decision on the plan.

Dated: March 17, 2008.
Thomas P. Lonnie,
State Director.

[FR Doc. E8-11478 Filed 5-22-08; 8:45 am]

BILLING CODE 4310-JA-P